DEPARTMENT OF AGRICULTURE

Agricultural Marketing Service

[Docket No. TB-00-15]

Flue-Cured Tobacco Advisory Committee; Meeting

In accordance with the Federal Advisory Committee Act (5 U.S.C. App.) announcement is made of the following committee meeting:

Name: Flue-Cured Tobacco Advisory Committee.

Date: June 15, 2000.

Time: 9 a.m.

Place: United States Department of Agriculture, (USDA), Agricultural Marketing Service (AMS), Tobacco Programs, Flue-Cured Tobacco Cooperative Stabilization Corporation Building, Room 223, 1306 Annapolis Drive, Raleigh, North Carolina 27608.

Purpose: To establish submarketing areas, discuss selling schedules, recommend opening dates, review the operational policies and procedures, and other related matters for the 2000 flue-cured tobacco marketing season.

The meeting is open to the public. Persons, other than members, who wish to address the Committee at the meeting should contact John P. Duncan III, Deputy Administrator, Tobacco Programs, AMS, USDA, AG 0280, Room 502 Annex Building, P.O. Box 96456, Washington, D.C. 20090-6456; (202) 205-0567, prior to the meeting. Written statements may be submitted to the Committee before, at, or after the meeting. If you need any accommodations to participate in the meeting, please contact the Tobacco Programs at (202) 205-0567 by June 7, 2000, and inform us of your needs.

Dated: May 4, 2000.
John P. Duncan III,
Deputy Administrator, Tobacco Programs.

[FR Doc. 00-11837 Filed 5-10-00; 8:45 am]

BILLING CODE 3410-02-P